DEPARTMENT OF HEALTH AND HUMAN SERVICES

Food and Drug Administration

[Docket No. FDA-2011-N-0002]

Immunology Devices Panel of the Medical Devices Advisory Committee: Notice of Postponement of Meeting

AGENCY: Food and Drug Administration, HHS.

ACTION: Notice.

SUMMARY: The Food and Drug Administration (FDA) is postponing the meeting of the Immunology Devices Panel of the Medical Devices Advisory Committee scheduled for October 14, 2011. The meeting was announced in the Federal Register of August 9, 2011 (76 FR 48871). The meeting is postponed so that FDA can review and consider additional information that was submitted. Future meeting dates will be announced in the Federal Register.

FOR FURTHER INFORMATION CONTACT: Shanika Craig, Center for Devices and Radiological Health, Food and Drug Administration, 10903 New Hampshire Ave., Bldg. 66, rm. 1613, Silver Spring, MD 20993-0002, 301-796-6639, e-mail: shanika.craig@fda.hhs.gov, or FDA Advisory Committee Information Line, 1-800-741-8138 (301-443-0572 in the Washington, DC area). Please call the Information Line for up-to-date information on this meeting.

Dated: August 31, 2011.
Leslie Kux,
Acting Assistant Commissioner for Policy.

[FR Doc. 2011-22767 Filed 9-6-11; 8:45 am]

BILLING CODE 4160-01-P